DEPARTMENT OF COMMERCE

National Oceanic and Atmospheric Administration

[Docket Number: 070327071-7070-01]

Draft Revision of the NOAA Five-Year Research Plan

AGENCY: National Oceanic and Atmospheric Administration (NOAA), Department of Commerce (DOC).

ACTION: Notice of availability and request for public comment.

SUMMARY: NOAA publishes this notice to announce the availability of the revised draft NOAA 5-Year Research Plan for public comment. The Research Plan is revised to update it for 2007-2011.

DATES: Comments on this draft document must be submitted by 5 p.m. EDT on July 18, 2007.

ADDRESSES: The draft NOAA 5-Year Research Plan will be available on the NOAA Research Council Web site at http://www.nrc.noaa.gov/plans.html.

The public is encouraged to submit comments electronically to noaa.review.5year@noaa.gov. For individuals who do not have access to a computer, comments may be submitted in writing to: NOAA Research Council, c/o Mr. Derek Parks, Silver Spring Metro Center Bldg. 3, Room 11335, R/PPE, 1315 East-West Highway, Silver Spring, Maryland 20910.

FOR FURTHER INFORMATION CONTACT: Mr. Derek Parks, Silver Spring Metro Center Bldg. 3, Room 11335, R/PPE, 1315 East-West Highway, Silver Spring, Maryland 20910. (Phone: 301-734-1186, Fax: 301-713-0158, e-mail: Derek.Parks@noaa.gov), during normal business hours of 9 a.m. to 5 p.m. Eastern Time, Monday through Friday, or visit the NOAA Research Council Web site at: http://www.nrc.noaa.gov.

SUPPLEMENTARY INFORMATION: NOAA is publishing this notice to announce the availability of the draft NOAA 5-Year Research Plan Draft for public comment. The NOAA Research Council is seeking public comment from all interested parties. The NOAA 5-Year Research Plan Draft is being issued for comment only and is not intended for interim use. Suggested changes will be incorporated where appropriate, and the final document will be posted on the NOAA Research Council Web site.

The NOAA 5-Year Research Plan is being revised by the NOAA Research Council to update the original NOAA 5-Year Research Plan, published in January 2005. The revisions reflect the evolution of NOAA's research activities and priorities since the document's original publication. The draft NOAA 5-Year Research Plan is consistent with the NOAA Strategic Plan and the NOAA 20-Year Research Vision.

The draft NOAA 5-Year Research Plan frames research in NOAA within the context of societal needs and by establishing overarching research questions encompassing critical environmental challenges facing the United States today and in the future. This plan explicitly states priority research areas for the short term and the milestones by which NOAA intends to measure progress within these areas. Significant changes in this revision of the NOAA 5-Year Research Plan include expanded discussion of critical research tools as well as the transition of research to application, a recognition of the value of transformational research, and a new chapter on technology and mission support. The draft NOAA 5-Year Research Plan also provides clear linkages between its research milestones and the NOAA Strategic Plan.

NOAA welcomes all comments on the content of the draft NOAA 5-Year Research Plan. We also request comments on any inconsistencies perceived within the document and possible omissions of important topics or issues. For any shortcoming noted within the draft document, please propose specific remedies.

Please follow these instructions for preparing and submitting comments. Using the format guidance described below will facilitate the processing of reviewer comments and assure that all comments are appropriately considered. Overview comments should be provided first. Comments that are specific to particular pages, paragraphs, or lines of the section should follow any overview comments and should identify the page numbers to which they apply. Please number each page of your comments.

Dated: June 13, 2007.
Terry Bevels,
Deputy Chief Financial Officer, Office of Oceanic and Atmospheric Research, National Oceanic and Atmospheric Administration.

[FR Doc. E7-11701 Filed 6-15-07; 8:45 am]

BILLING CODE 3510-KD-P